DEPARTMENT OF HEALTH AND HUMAN SERVICES

Substance Abuse and Mental Health Services Administration

Center for Substance Abuse Prevention; Notice of Meeting

Pursuant to Public Law 92-463, notice is hereby given of the meeting of the Center for Substance Abuse Prevention (CSAP) National Advisory Council in September 2002.

The agenda of the open portion of the meeting will include the Center for Substance Abuse Prevention's Director's Report, the Administrator's Report, updates on CSAP's budget and programs, and the Faith-based Initiative, and administrative matters and announcements.

The agenda will include the review, discussion, and evaluation of individual grant applications. Therefore a portion of the meeting will be closed to the public as determined by the Administrator, SAMHSA, in accordance with Title 5 U.S.C. 552b(c)(6) and 5 U.S.C. App.2, 10(d).

Public comments are welcome. If anyone needs special accommodations for persons with disabilities, please notify the contact listed below.

A summary of this meeting and roster of committee members may be obtained from Carol Watkins, Committee Management Officer, Rockwall II building, Suite 900, 5600 Fishers Lane, Rockville, Maryland 20857, Telephone: (301) 443-9542.

Substantive program information may be obtained from the contact person listed below.

Committee Name: Center for Substance Abuse Prevention National Advisory Council.

Meeting Dates: Monday, September 9, 2002 (Closed 9-11:30 a.m.), Monday, September 9, 2002 (Open 1-5 p.m.), Tuesday, September 10, 2002 (Open 8:30 a.m.-12 Noon).

Meeting Place: Four Points Sheraton, 8400 Wisconsin Avenue, Bethesda, Maryland, Telephone (301) 941-2719.

Contact: Carol D. Watkins, Committee Management Specialist, 5600 Fishers Lane, Rockwall II Building, Suite 900, Rockville, Maryland 20857, Telephone: (301) 443-9542.

Dated: August 23, 2002.
Toian Vaughn,
Executive Secretary/Committee Management Officer, Substance Abuse and Mental Health Services Administration.

[FR Doc. 02-22912 Filed 9-9-02; 8:45 am]

BILLING CODE 4162-20-P